DEPARTMENT OF ENERGY

Federal Energy Regulatory Commission

[Docket No. CP16-10-000; Docket No. CP16-13-000]

Notice of Availability of the Final Environmental Impact Statement for the Proposed Mountain Valley Project and Equitrans Expansion Project: Mountain Valley Pipeline LLC, Equitrans LP

The staff of the Federal Energy Regulatory Commission (FERC or Commission) has prepared a final environmental impact statement (EIS) for the projects proposed by Mountain Valley Pipeline LLC (Mountain Valley) and Equitrans LP (Equitrans) in the above-referenced dockets. Mountain Valley requests authorization to construct and operate certain interstate natural gas facilities in West Virginia and Virginia, known as the Mountain Valley Project (MVP) in Docket Number CP16-10-000. The MVP is designed to transport about 2 billion cubic feet per day (Bcf/d) of natural gas from production areas in the Appalachian Basin to markets in the Mid-Atlantic and Southeastern United States. Equitrans requests authorization to construct and operate certain natural gas facilities in Pennsylvania and West Virginia, known as the Equitrans Expansion Project (EEP) in Docket No. CP16-13-000. The EEP is designed to transport about 0.4 Bcf/d of natural gas, to improve system flexibility and reliability, and serve markets in the Northeast, Mid-Atlantic, and Southeast, through interconnections with various other interstate systems, including the proposed MVP.

The final EIS assesses the potential environmental effects of the construction and operation of the MVP and EEP in accordance with the requirements of the National Environmental Policy Act of 1969 (NEPA). The FERC staff concludes that construction and operation of the projects would result in some adverse environmental impacts. In the case of the clearing of forest, effects may be long-term and significant. However, for most other environmental resources, effects should be temporary or short-term, and impacts would be reduced to less-than-significant levels with the implementation of the applicants' proposed mitigation measures and the additional measures recommended in the final EIS.

The United States (U.S.) Department of Agriculture Forest Service (FS); U.S. Army Corps of Engineers (COE); U.S. Environmental Protection Agency (EPA); U.S. Department of the Interior Bureau of Land Management (BLM); the U.S. Fish and Wildlife Service (FWS), West Virginia Field Office; U.S. Department of Transportation; West Virginia Department of Environmental Protection; and West Virginia Division of Natural Resources participated as cooperating agencies in the preparation of the final EIS. Cooperating agencies have jurisdiction by law or special expertise with respect to resources potentially affected by the proposals and participated in the NEPA analysis.

Proposed Facilities

The final EIS addresses the potential environmental effects of the construction and operation of the proposed facilities. For the MVP, facilities include:

• About 304 miles of new 42-inch-diameter pipeline extending from the new Mobley Interconnect in Wetzel County, West Virginia to the existing Transcontinental Gas Pipe Line Company LLC (Transco) Station 165 in Pittsylvania County, Virginia;

• 3 new compressor stations (Bradshaw, Harris, Stallworth) in West Virginia, totaling about 171,600 horsepower (hp);

• 4 new meter and regulation stations and interconnections (Mobley, Sherwood, WB, and Transco);

• 3 new taps (Webster, Roanoke Gas Lafayette, and Roanoke Gas Franklin);

• 8 pig ¹ launchers and receivers at 5 locations; and

¹ A pig is a device used to clean or inspect the interior of a pipeline.

• 36 mainline block valves.

For the EEP, facilities include:

• About 7 miles total of new various diameter pipelines in six segments;

• new Redhook Compressor Station, in Greene County, Pennsylvania, with 31,300 hp of compression;

• 4 new taps (Mobley, H-148, H-302, H-306) and 1 new interconnection (Webster);

• 4 pig launchers and receivers; and

• decommissioning and abandonment of the existing 4,800 hp Pratt Compressor Station in Greene County, Pennsylvania.

Actions of the Federal Agencies Informed by the Environmental Impact Statement

Under Section 7 of the Natural Gas Act, the Commission determines whether interstate natural gas transportation facilities are in the public convenience and necessity and, if so, grants a Certificate to construct and operate them. The Commission bases its decisions on technical competence, financing, rates, market demand, gas supply, environmental impact, long-term feasibility, and other issues concerning a proposed project. The final EIS summarizes the environmental impacts and includes recommended conditions to the prospective Commission orders that would further reduce the impacts of the proposed actions.

The BLM's purpose and need for the proposed action is to respond to a Right-of-Way Grant application submitted by Mountain Valley. Under the Mineral Leasing Act, the Secretary of the Interior has delegated authority to the BLM to grant a right-of-way on federal lands under the jurisdiction of two or more federal agencies. Before issuing the Right-of-Way Grant, the BLM must receive the written concurrence of the other surface managing federal agencies (i.e., FS and COE) in accordance with 43 CFR 2882.3(i).

The FS's purpose and need for the proposed action is to consider issuing a concurrence to the BLM for the Right-of-Way Grant and to evaluate an amendment to the Land and Resource Management Plan (LRMP) for the Jefferson National Forest that would make provision for the MVP pipeline's construction and operation. The FS amendment to the Jefferson National Forest LRMP is analyzed in the EIS.

The BLM may adopt and use the final EIS when considering the issuance of a Right-of-Way Grant to Mountain Valley for the portion of the MVP that would cross federal lands; with the concurrence of the FS and COE. Further, the FS may use the final EIS when it considers amending its LRMP for the proposed MVP crossing of the Jefferson National Forest. Although the cooperating agencies provided input to the conclusions and recommendations presented in the final EIS, the agencies will present their own conclusions and recommendations in their respective Records of Decision (ROD) for the projects.

Forest Service's Draft Record of Decision

The MVP may be implemented across National Forest System (NFS) land if the BLM grants the rights-of-way for the MVP pipeline to cross the Jefferson National Forest and the FS amends the Jefferson National Forest LRMP (Forest Plan). The Forest Supervisor of the George Washington and Jefferson National Forests has adopted the environmental analysis conducted by FERC (in accordance with 40 CFR 1506.3(a) and (c)) to support his decision to amend the Jefferson National Forest LRMP. He has determined that five parts of the Jefferson National Forest LRMP, where 11 standards would be modified by a Forest Plan amendment (section 4.8 of the final EIS), meet the substantive requirements of the FS planning regulations (36 CFR part 219); and can be implemented without impairing the long-term productivity of NFS lands. With the amended LRMP, the MVP would be consistent with the Forest Plan. The draft decision is based on a review of the environmental analysis disclosed in the final EIS, the project record, Mountain Valley's proposed Plan of Development, comments from the public, partners, and other agencies, and a consideration of the 36 CFR part 219 requirements for amending a Forest Plan.

The FS decision is subject to objection pursuant to the provisions available at 36 CFR part 218, subparts A and B (published in the Federal Register Vol. 78, No. 59 at 18481 [March 27, 2013]). Objections to the FS decision must be filed within 45 calendar days from the publication date of the legal notice of the opportunity to object in the Roanoke Times, which is the newspaper of record for the George Washington and Jefferson National Forests. The legal notice contains the details of the objection process. The FS must respond to all objections received before it makes a final decision on the proposed Forest Plan amendments. The final decision on the Forest Plan amendments and the final EIS analysis will inform the FS concurrence to the BLM for its Right-of-Way Grant.

A copy of the FS draft ROD and of the legal notice for objections can be obtained by any of the following methods: Internet Web site: http://www.fs.usda.gov/gwj; email: kovercash@fs.fed.us@fs.fed.us; or regular mail: Karen Overcash, George Washington-Jefferson Environmental Coordinator, 5162 Valleypointe Parkway, Roanoke, VA 24019; telephone: (540) 265-5100.

Comments on the Bureau of Land Management Record of Decision

The BLM is soliciting comments specific to MVP impacts on federal lands managed by the COE and FS for consideration in its ROD. If you wish to submit written comments to the BLM, they must be submitted within thirty (30) calendar days from the date that the EPA publishes the Notice of Availability of the Environmental Impact Statement for the Proposed Mountain Valley Project and Equitrans Expansion Project in the Federal Register. You may use any of the following methods to submit comments to the BLM: E-planning MVP Comment Submission Web page at http://bit.ly/2qByLlw; or mail to: Vicki Craft, U.S. Bureau of Land Management, Southeastern State District Office, 273 Market Street, Flowood, MS 39232.

Distribution of the Final Environmental Impact Statement

The FERC staff mailed copies of the final EIS to federal, state, and local government representatives and agencies; elected officials; environmental and public interest groups; Native American tribes; potentially affected landowners and other interested individuals and groups; and newspapers and libraries in the project area. Paper copy versions of this EIS were mailed to those specifically requesting them; all others received a compact-disc version. In addition, the EIS is available for public viewing on the FERC's Web site (www.ferc.gov) using the eLibrary link. A limited number of copies are available for distribution and public inspection at: Federal Energy Regulatory Commission, Public Reference Room, 888 First Street NE., Room 2A, Washington, DC 20426, (202) 502-8371.

Additional information about the project is available from the Commission's Office of External Affairs, at (866) 208-FERC, or on the FERC Web site (www.ferc.gov) using the eLibrary link. Click on the eLibrary link, click on “General Search,” and enter the docket number excluding the last three digits in the Docket Number field (i.e., CP16-10 or CP16-13). Be sure you have selected an appropriate date range. For assistance, please contact FERC Online Support at FercOnlineSupport@ferc.gov or toll free at (866) 208-3676; for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/docs-filing/esubscription.asp.

Dated: June 23, 2017.
Nathaniel J. Davis, Sr.,
Deputy Secretary.

[FR Doc. 2017-13598 Filed 6-28-17; 8:45 am]

BILLING CODE 6717-01-P